FEDERAL MINE SAFETY AND HEALTH REVIEW COMMISSION

Sunshine Act; Notice of Meetings

June 10, 2009.

TIME AND DATE: 10 a.m., Thursday, June 25, 2009.

PLACE: The Richard V. Backley Hearing Room, 9th Floor, 601 New Jersey Avenue, NW., Washington, DC.

STATUS: Open.

MATTERS TO BE CONSIDERED: The Commission will hear oral argument in the matter Secretary of Labor v. Musser Engineering, Inc., and PBS Coals, Inc., Docket Nos. PENN 2004-152 and PENN 2004-158. (Issues include whether Musser and PBS violated 29 CFR 75.1200 when the operator of the Quecreek mine failed to maintain an accurate mine map showing the boundaries of adjacent abandoned mine workings, whether the alleged violations were “significant and substantial,” whether the companies were guilty of gross negligence, and whether the Administrative Law Judge properly increased the proposed penalty amounts.)

Any person attending this oral argument who requires special accessibility features and/or auxiliary aids, such as sign language interpreters, must inform the Commission in advance of those needs. Subject to 29 CFR 2706.150(a)(3) and 2706.160(d).

CONTACT PERSON FOR MORE INFORMATION: Jean Ellen (202) 434-9950 / (202) 708-9300 for TDD Relay/1-800-877-8339 for toll free.

Jean H. Ellen,
Chief Docket Clerk.

[FR Doc. E9-14284 Filed 6-12-09; 4:15 pm]

BILLING CODE P